DEPARTMENT OF THE INTERIOR

Bureau of Land Management

[BLM_AK_FRN_MO4500168906]

Notice of Availability of the Final Supplemental Environmental Impact Statement for the Willow Master Development Plan, Alaska

AGENCY: Bureau of Land Management, Interior.

ACTION: Notice of Availability.

SUMMARY: In accordance with the National Environmental Policy Act of 1969, as amended, the Bureau of Land Management (BLM) has prepared a Final Supplemental Environmental Impact Statement (EIS) for the Willow Master Development Plan (MDP), and by this notice is announcing its publication.

DATES: The BLM will issue a Record of Decision (ROD) for the project no earlier than 30 days from the date the Environmental Protection Agency publishes its Notice of Availability of the Final Supplemental EIS in the Federal Register.

ADDRESSES: To access the Final Supplemental EIS please visit the project's National Environmental Policy Act (NEPA) Register website:

• BLM's NEPA Register website: https://eplanning.blm.gov/eplanning-ui/project/109410/510

To request an electronic or paper copy of the Final SEIS, please reach out to:

• Mail: 222 W. 7th Avenue, Stop #13, Anchorage, Alaska 99513

Documents pertinent to this proposal, including the Draft SEIS, may be examined at the NEPA Register website. https://eplanning.blm.gov/eplanning-ui/project/109410/510

FOR FURTHER INFORMATION CONTACT: Carrie Cecil at (907) 271-1306, or by email at ccecil@blm.gov, on questions specific to NEPA or to have your name added to our mailing list. Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: The Willow Master Development Plan Final Supplemental EIS analyzes an oil and gas development project proposed by ConocoPhillips Alaska, Inc. on Federal oil and gas leases it holds in the northeast region of the National Petroleum Reserve in Alaska. The Willow project was originally analyzed in the 2020 Willow MDP/Final EIS and authorized in a ROD issued in October 2020. In August 2021, the U.S. District Court for the District of Alaska vacated the ROD and remanded the matter to BLM to correct deficiencies in the EIS regarding analysis of foreign greenhouse gas emissions and screening of alternatives for detailed analysis. To comply with this ruling, the BLM made numerous updates to the analysis, including development of a new alternative (Alternative E) that substantially reduces infrastructure in the Teshekpuk Lake Special Area. The BLM has identified Alternative E and Module Delivery Option 3 as its preferred alternative. The Draft Supplemental EIS was issued on July 15, 2022, with opportunity for public comment. This Final Supplemental EIS complies with all applicable laws and current Department of the Interior guidance, including (but not limited to) NEPA, the Federal Land Policy and Management Act of 1976, the Alaska National Interest Lands Conservation Act, and the Naval Petroleum Reserves Production Act.

Authority: 40 CFR 1506.6(b).

Steven Cohn,
State Director, BLM Alaska.

[FR Doc. 2023-02344 Filed 2-3-23; 8:45 am]

BILLING CODE 4331-10-P